NATIONAL SCIENCE FOUNDATION

Agency Information Collection Activities: Proposed Collection; Comment Request

AGENCY: National Science Foundation

ACTION: Notice.

SUMMARY: The National Science Foundation (NSF) is announcing plans to request reinstatement and clearance of this collection. In accordance with the requirement of Section 3506(c)(2)(A) of the Paperwork Reduction Act of 1995, we are providing opportunity for public comment on this action. After obtaining and considering public comment, NSF will prepare the submission requesting OMB clearance of this collection for no longer than 3 years.

Comments are invited on: (a) Whether the proposed collection of information is necessary for the proper performance of the functions of the Agency, including whether the information shall have practical utility; (b) the accuracy of the agency's estimate of the burden of the proposed collection of information; (c) ways to enhance the quality, utility, and clarity of the information on respondents, including through the use of automated collection techniques or other forms of information technology; and (d) ways to minimize the burden of the collection of information on respondents, including through the use of automated collection techniques or other forms off information technology.

DATES: Written comments should be received by June 21, 2005, to be assured of consideration. Comments received after that date will be considered to the extent practicable.

ADDRESSES: Written comments regarding the information collection and requests for copies of the proposed information collection request should be addressed to Suzanne Plimpton, Reports Clearance Officer, National Science Foundation, 4201 Wilson Blvd., Rm. 295, Arlington, VA 22230, or by e-mail to splimpto@nsf.gov.

FOR FURTHER INFORMATION CONTACT: Suzanne Plimpton on (703) 292-7556 or send e-mail to splimpto@nsf.gov. Individuals who use a telecommunications device for the deaf (TDD) may call the Federal Information Relay Service (FIRS) at 1-800-877-8339 between 8 a.m. and 8 p.m., eastern time, Monday through Friday.

SUPPLEMENTARY INFORMATION: Request for Clearance for a Cross-Project Evaluation of the National Science Foundation's Directorate for Education and Human Resources' Local Systemic Change through Teacher Enhancement Program (LSC).

Title of Collection

OMB Control No.: 3145-0161.

Expiration Date of Approval: Not applicable.

Abstract: The National Science Foundation (NSF) requests a three-year extension for evaluation and data collection (e.g., surveys and interviews) from participants in projects funded by the Local Systemic Change (LSC) through Teacher Enhancement (TE) program. This recurring study or “cross-Project Evaluation” was most recently approved through July 2005 (OMB 345-0161). The LSC program is a large-scale effort to modify the nature of teacher in-service training (also called professional development) provided to science and mathematics teachers in a large number of school districts across the United States. NSF provided each individual project with a grant(s) of up to $6 million.

Data collection from the NSF-funded LSC projects has been going on for a long number of years. The surveys and interview protocols are part of a longitudinal data collection used for program-wide monitoring and evaluation of the remaining LSC projects. The universe of LSC projects the last time this collection was renewed was 72. The current universe for this study of LSC projects is 15. NSF does not anticipating making new project awards under the LSC program. As in the past each of the projects will administer teacher and principal questionnaires (surveys) at appropriate times during the school year based on each the evaluation's design.

Horizon Research, Inc. maintains survey responses in a database designed to provide information and reports on LSC projects for individual project accountability and for overall assessment to help NSF judge program effectiveness. Horizon's data analysis and reports are useful both to the projects themselves for self-assessments and to the NSF in order to help to measure the LSC program's performance. In particular, NSF uses these data to respond to requests from Committees of Visitors, Congress and the Office of Management and Budget, particularly as related to the Government Performance and Results Act (GPRA) and the Program Effectiveness Rating Tool (PART).

Horizon's reports to NSF deal with the characteristics and performance of the LSC program and include tables and charts generated from the database. The LSC study's broad questions addressed by data analysis include (but are not limited to):

What is the impact of the LSC projects on science and mathematics curriculum, instruction, and assessment? How do participant reports of instructional practice change over the course of the LSC projects? How do participant reports of assessment practice change over the course of the projects? How do teacher and principal beliefs about effective science and mathematics instruction change over the course of the NSF-funding for the projects? What is the overall quality of the professional development activities? How do participants rate various aspects of professional development experiences provided by the projects? What is the extent of teacher involvement in these projects?

Respondents: Individuals or households, and not-for-profit institutions.

Number of Respondents: 5,650.

Burden on the Public: 1,870 hours.

Dated: April 18, 2005.
Suzanne H. Plimpton,
Reports Clearance Officer, National Science Foundation.

[FR Doc. 05-8060 Filed 4-21-05; 8:45 am]

BILLING CODE 7555-01-M